DEPARTMENT OF HEALTH AND HUMAN SERVICES

Centers for Disease Control and Prevention

[30Day-08-07AJ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Racial and Ethnic Approaches to Community Health Across the U.S. (REACH U.S.) Management Information System—New—National Center for Chronic Disease Prevention and Health Promotion (NCCDPHP), Centers for Disease Control and Prevention (CDC).

Background and Brief Description

Racial and Ethnic Approaches to Community Health Across the U.S. (REACH U.S.) is a national, multi-level program that serves as the cornerstone of CDC's efforts to eliminate racial and ethnic disparities in health. Through REACH U.S., CDC currently supports forty local coalitions to establish community-based programs and culturally-appropriate interventions to eliminate racial and ethnic health disparities. REACH U.S. serves communities with African American, American Indian, Hispanic American, Asian American, and Pacific Islander citizens.

The communities served by REACH U.S. are assessing the prevalence of self-reported risk behaviors in the following key health priority areas: Cardiovascular disease; diabetes mellitus; breast and cervical cancer; adult/older adult immunizations, hepatitis B, and/or tuberculosis; asthma; and infant mortality. Guided by logic models, each community is required to articulate goals, objectives, and related activities; track whether goals and objectives are met, ongoing, or revised; and evaluate all program activities.

CDC requests OMB clearance for a new, customized, Internet-based management information system, the REACH U.S. MIS, designed to replace the current REACH Information Network (REACH IN, OMB #0920-0603). The new REACH U.S. MIS will allow REACH grantees to perform remote data entry and retrieval of data, create on-demand graphs and reports of grantees' activities and accomplishments, monitor progress toward the achievement of goals and objectives, and share and synthesize information across grantees' activities. Both quantitative and qualitative analyses can be performed. The REACH U.S. MIS will collect new data elements needed to measure progress toward, or achievement of, newly developed performance indicators, and will allow CDC to monitor, and report on, grantee activities more efficiently. In addition, data reported to CDC through the REACH U.S. MIS will be used by CDC to identify training and technical assistance needs and to obtain information needed to respond to Congressional and other inquiries regarding program activities and effectiveness. Information will be reported to CDC on a semi-annual schedule.

There are no costs to respondents except their time. The total estimated annualized burden hours are 120.

Estimated Annualized Burden Hours
Type of respondents | Number of respondents | Number of responses per respondent | Average burden per response (in hours)
REACH U.S. Grantees | 40 | 2 | 90/60

Dated: December 3, 2007.
Maryam I. Daneshvar,
Acting Reports Clearance Officer, Centers for Disease Control and Prevention.

[FR Doc. E7-23855 Filed 12-7-07; 8:45 am]

BILLING CODE 4163-18-P